ENVIRONMENTAL PROTECTION AGENCY

[FRL-6702-6]

Agency Information Collection Activities: Questionnaire for Nominees for the Annual National Clean Water Act Recognition Awards Program (National Wastewater Management Excellence Awards Program)

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Questionnaire for the Annual National Clean Water Act Recognition Awards Program (National Wastewater Management Excellence Awards Program) EPA ICR Number 1287.05, and OMB Control Number 2040-0101, approved through December 31, 2000. Before submitting the ICR to OMB for review and approval, EPA is soliciting comments on specific aspects of the proposed information collection as described below.

DATES: Comments must be submitted on or before July 17, 2000.

ADDRESSES: Office of Water, Office of Wastewater Management, Municipal Support Division, Municipal Assistance Branch, 1200 Pennsylvania Ave., NW, Washington, DC 20460.

FOR FURTHER INFORMATION CONTACT: Maria E. Campbell, 202-260-5815/Fax Number 202-260-0116/e-mail at campbell.maria@epa.gov.

SUPPLEMENTARY INFORMATION:

Affected entities: Entities potentially affected by this action are public wastewater treatment plants, municipalities, industries, universities, manufacturing sites, and States.

Title: Questionnaire for Nominees for the Annual National Clean Water Act Recognition Awards Program (National Wastewater Management Excellence Awards Program) (OMB Control No. 2040-0101, EPA ICR No. 1287.05) expires 12/31/00.

Abstract: This ICR requests re-approval to collect data from EPA's National Clean Water Act Recognition Awards nominees. The awards are for the following program categories: Operations and Maintenance (O&M), Beneficial Use of Biosolids (Biosolids), Combined Sewer Overflow Controls (CSO), and Storm Water (SW) Management.

Note: Information collection approval for the Pretreatment awards program is included in the National Pretreatment Program ICR (OMB Control No. 2040-0009, EPA ICR No. 0003.08), approved through May 31, 2000. The National Clean Water Act Recognition Awards Program is managed by EPA's Office of Wastewater Management (OWM). The Awards Program is authorized under section 501(e) of the Clean Water Act, as amended. The Awards Program is intended to provide recognition to communities and industries which have demonstrated outstanding technological achievements, innovative processes, devices or other outstanding methods in their waste treatment and pollution abatement programs. Approximately 50 awards are presented annually. The achievements of these award winners are summarized in reports, news articles, national publications, and Federal Register Notice.

The information is collected from approximately 200 respondents at a total cost of $79,200 per year and 2800 burden hours, including $46,000 and 1600 burden hours for the respondents' time, and $33,200 and 1200 burden hours for the States' review time. Submission of information on behalf of the respondents is voluntary. No confidential information is requested. The Agency only collects information from award nominees under a currently valid OMB control number. The OMB control numbers for EPA's regulations are listed in 40 CFR part 9 and 48 CFR Chapter 15. Based on the data collection, national panels will evaluate the nominees' efforts and recommend finalists. The collections will be used by the respective awards programs to evaluate and determine which abatement achievements should be recognized.

As currently structured, the O&M awards program has nine categories which recognize municipal achievements. The biosolids awards program has four categories which recognize municipal biosolids operations, technology and research achievements, and public acceptance; the CSO awards program has one category which recognizes municipal programs; and the SW awards program has two categories which recognize municipal and industrial programs. All nominees are screened for environmental compliance by the States and EPA. Municipalities and institu-tions desiring to be considered for National awards voluntarily complete the questionnaires and provide design and operating information about their facility or programs. The award nomina-tions are reviewed by State/Regional officials prior to forwarding them for National award consideration. At the National level, award reviews involve Federal officials and review panels comprised of representatives of EPA, State water pollution control agencies, and affiliated associations.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Respondents: Officials at public wastewater treatment plants, municipalities, industries, universities, States and manufacturing sites.

Estimated Number of Respondents: 200.

Estimated Number of Responses Per Respondent: 1.

Frequency of Collection: Once a year.

Estimated Total Annual Burden on Respondents: 2800 hours (1600 hours for the response time and 1200 hours for the States' review time).

Burden means the total time, effort, or financial resources expended to generate, maintain, retain, disclose, or provide information to EPA. This estimate includes the time needed to review instructions, collect, validate, and verify information; complete and review the collection of information; and transmit the information to EPA.

Dated: May 2, 2000.
Michael B. Cook,
Director, Office of Wastewater Management.

[FR Doc. 00-12523 Filed 5-17-00; 8:45 am]

BILLING CODE 6560-50-P